DEPARTMENT OF HEALTH AND HUMAN SERVICES

Administration for Children and Families

[CFDA Number: 93.564]

Announcement of the Award of a Single-Source Expansion Supplement Grant to the Wisconsin Department for Children and Families in Madison, WI

AGENCY: Office of Child Support Enforcement, ACF, HHS.

ACTION: Notice of the award of a single-source expansion supplement grant to the Wisconsin Department of Children and Families to support the evaluation of the Child Support Noncustodial Parent Employment Demonstration.

SUMMARY: The Administration for Children and Families (ACF), Office of Child Support Enforcement, Division of Program Innovation announces the award of a cooperative agreement in the amount of $200,000 to the Wisconsin Department for Children and Families in Madison, WI to support the evaluation of the Child Support Noncustodial Parent Employment Demonstration.

In FY 2012, the Office of Child Support Enforcement (OCSE) competitively awarded a cooperative agreement to the Wisconsin Department of Children and Families to conduct a 5-year evaluation of OCSE's national demonstration called Child Support Noncustodial Parent Employment Demonstration (CSPED) under Funding Opportunity Announcement (FOA) number HHS-2012-ACF-OCSE-FD-0537. Under this FOA, a total of $4.5 million of 1115 funds were made available to the Wisconsin Department of Children and Families to conduct this evaluation.

The award of $200,000 the Wisconsin Department of Children and Families is required to cover the unanticipated costs of conducting the CSPED evaluation. The CSPED evaluation includes an impact evaluation using random assignment, an implementation study and a benefit-cost analysis. The evaluator is also providing evaluation-related technical assistance to the grantees implementing CSPED. A baseline and 12 month follow-up survey are being conducted. Administrative data from multiple sources are also being collected and evaluated. A grants management information system was developed for grantees to use to conduct random assignment, enroll individuals into the project, and document service delivery.

DATES: The period of support for this supplement is September 30, 2016 through September 29, 2017.

FOR FURTHER INFORMATION CONTACT: Elaine Sorensen, Office of Child Support Enforcement, 330 C Street SW., 5th Floor, Washington, DC 20201. Telephone: 202-401-5099; Email: Elaine.sorensen@acf.hhs.gov.

SUPPLEMENTARY INFORMATION: Given the importance of child support outcomes for the evaluation of CSPED, OCSE has asked the Wisconsin Department of Children and Families to expand the child support outcomes included in the evaluation, requiring additional collection of child support administrative data and additional analyses of these data. In addition, the Wisconsin Department of Children and Families provided OCSE with preliminary impact findings using child support administrative data, which uncovered further unexpected complications with the child support administrative data. OCSE has asked the Wisconsin Department of Children and Families to go back and collect additional child support administrative data to further understand these complications and report their findings to OCSE. Finally, given the strong focus on child support outcomes for this evaluation, OCSE has asked the evaluator to add a second impact report that focuses exclusively on child support outcomes.

Statutory Authority: Section 1115 of the Social Security Act authorizes funds for experimental, pilot, or demonstration projects that are likely to assist in promoting the objectives of Part D of Title IV.

Christopher Beach,
Certifying Official, Senior Grants Policy Specialist, Division of Grants Policy, Office of Administration.

[FR Doc. 2016-26560 Filed 11-2-16; 8:45 am]

BILLING CODE 4184-42-P